DEPARTMENT OF HOUSING AND URBAN DEVELOPMENT

[Docket No. FR-7034-N-08; OMB Control No. 2528-New]

30-Day Notice of Proposed Information Collection: EnVision Centers Implementation Evaluation

AGENCY: Office of the Chief Information Officer, HUD.

ACTION: Notice.

SUMMARY: HUD is seeking approval from the Office of Management and Budget (OMB) for the information collection described below. In accordance with the Paperwork Reduction Act, HUD is requesting comment from all interested parties on the proposed collection of information. The purpose of this notice is to allow for 30 days of public comment.

DATES: Comments Due Date: March 26, 2021.

ADDRESSES: Interested persons are invited to submit comments regarding this proposal. Comments should refer to the proposal by name and/or OMB Control Number and should be sent to: HUD Desk Officer, Office of Management and Budget, New Executive Office Building, Washington, DC 20503; fax:202-395-5806, Email: OIRA Submission@omb.eop.gov.

FOR FURTHER INFORMATION CONTACT: Anna P. Guido, Reports Management Officer, QMAC, Department of Housing and Urban Development, 451 7th Street SW, Washington, DC 20410; email her at Anna.P.Guido@hud.gov or telephone 202-402-5535. This is not a toll-free number. Person with hearing or speech impairments may access this number through TTY by calling the toll-free Federal Relay Service at (800) 877-8339. Copies of available documents submitted to OMB may be obtained from Ms. Guido.

SUPPLEMENTARY INFORMATION: This notice informs the public that HUD is seeking approval from OMB for the information collection described in Section A.

The Federal Register notice that solicited public comment on the information collection for a period of 60 days was published on November 17, 2020 at 85 FR 73291.

A. Overview of Information Collection

Title of Information Collection: EnVision Centers Implementation Evaluation.

OMB Approval Number: 2528-New.

Type of Request: New collection.

Form Number: NA.

Description of the need for the information and proposed use: This request is for the collection of information for an implementation evaluation of EnVision Centers. EnVision Centers offer collocated and integrated services with the goal of helping low-income persons achieve self-sufficiency. Using leveraged resources from local and federal partnerships, HUD encourages EnVision Centers to target and integrate services within four main pillars: Economic empowerment, educational advancement, health and wellness, and character and leadership. In June 2018, HUD designated 18 EnVision Centers as part of the initiative's first cohort of designations and has since expanded the initiative with over 90 EnVision Centers to date. This creates a critical need to gain an in-depth understanding from local stakeholders of implementation efforts to date, which will help develop and guide the initiative while establishing a framework of knowledge for future program monitoring and evaluation efforts. The evaluation team will collect data from sites using qualitative, semi-structured interviews with four groups of key local stakeholders: Site leadership, front line staff, participants, and representatives from organizations (partners) that provide services and resources to the EnVision Center. The interviews will primarily seek to understand how communities selected and established their center, the process for centralized intake and participant level data collection, and how new partnerships and services have developed since the center's designation. Through an Inter-Agency Agreement (IAA), the Library of Congress' Federal Research Division will conduct the evaluation under guidance from HUD.

Information collection | Number of respondents | Frequency of response | Responses per annum | Burden hour per response | Annual burden hours | Hourly cost per response | Annual cost
Qualitative Interviews—Leadership | 90 | 1 | 90 | 1 | 90 | $35.05 | $3,154.50
Qualitative Interviews—Front Line Staff | 54 | 1 | 54 | 1 | 54 | 17.39 | 939.06
Qualitative Interviews—Participants | 90 | 1 | 90 | 1 | 90 | 7.25 | 652.50
Qualitative Interviews—Partners | 36 | 1 | 36 | 1 | 36 | 17.39 | 626.04
Total | 270 |  |  |  | 270 |  | 5,372.10

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

(5) Ways to minimize the burden of the collection of information on those who are to respond, including the use of automated collection techniques or other forms of information technology.

HUD encourages interested parties to submit comment in response to these questions.

C. Authority

Section 3507 of the Paperwork Reduction Act of 1995, 44 U.S.C. Chapter 35.

Anna P. Guido,
Department Reports Management Officer, Office of the Chief Information Officer.

[FR Doc. 2021-03806 Filed 2-23-21; 8:45 am]

BILLING CODE 4210-67-P